DEPARTMENT OF LABOR

Employment and Training Administration

[TA-W-55,504]

PPC Insulators Knoxville, TN; Notice of Revised Determination on Reconsideration of Alternative Trade Adjustment Assistance

By letter dated September 30, 2004, the Tennessee AFL-CIO Technical Assistance Center requested administrative reconsideration regarding Alternative Trade Adjustment Assistance (ATAA). The negative determination was signed on September 15, 2004 and published in the Federal Register on October 8, 2004 (69 FR 60427).

The workers of PPC Insulators, Knoxville, Tennessee were certified eligible to apply for Trade Adjustment Assistance (TAA) on September 15, 2004.

The initial ATAA investigation determined that the skills of the subject worker group are easily transferable to other positions in the local area.

The AFL-CIO provided documentation with the request for reconsideration that the skills of the workers at the subject firm are not easily transferable in the local commuting area.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

“All workers of PPC Insulators, Knoxville, Tennessee, who became totally or partially separated from employment on or after August 20, 2003 through September 15, 2006, are eligible to apply for adjustment assistance under Section 223 of the Trade Act of 1974, and are also eligible to apply for alternative trade adjustment assistance under Section 246 of the Trade Act of 1974.”

Signed in Washington, DC, this 20th day of October 2004.
Linda G. Poole,
Certifying Officer, Division of Trade Adjustment Assistance.

[FR Doc. E4-2909 Filed 10-28-04; 8:45 am]

BILLING CODE 4510-30-P